DEPARTMENT OF THE INTERIOR

Bureau of Land Management

[AK-932-1410-ET; F-14838]

Public Land Order No. 7595; Withdrawal of Public Lands for Bethel Village Selection; Alaska

AGENCY: Bureau of Land Management, Interior.

ACTION: Public land order.

SUMMARY: This order withdraws approximately 61,139 acres of public lands located within and outside of the Yukon Delta National Wildlife Refuge from all forms of appropriation under the public land laws, including the mining and mineral leasing laws, pursuant to section 22(j)(2) of the Alaska Native Claims Settlement Act. This action also reserves the lands for selection by the Bethel Native Corporation, the village corporation for Bethel. This withdrawal is for a period of 120 days; however, any lands selected shall remain withdrawn by the order until they are conveyed. Any lands described herein that are not selected by the corporation will remain withdrawn as part of the Yukon Delta National Wildlife Refuge, pursuant to the Alaska National Interest Lands Conservation Act, and will be subject to the terms and conditions of any other withdrawal or segregation of record.

EFFECTIVE DATE: February 10, 2004.

FOR FURTHER INFORMATION CONTACT: Robbie J. Havens, Bureau of Land Management, Alaska State Office, 222 W. 7th Avenue, No. 13, Anchorage, Alaska 99513-7599, 907-271-5477.

Order

By virtue of the authority vested in the Secretary of the Interior by Section 22(j)(2) of the Alaska Native Claims Settlement Act, 43 U.S.C. 1621 (j)(2) (2000), it is ordered as follows:

1. Subject to valid existing rights, the following described public lands located within and outside of the Yukon Delta National Wildlife Refuge are hereby withdrawn from all forms of appropriation under the public land laws, including the mining and mineral leasing laws, and are hereby reserved for selection under Section 12 of the Alaska Native Claims Settlement Act, 43 U.S.C. 1611 (2000), by the Bethel Native Corporation, the village corporation for Bethel:

Seward Meridian

T. 10 N., R. 61 W., (unsurveyed)

Secs. 5 to 8, inclusive;

Secs. 16, 17, and 18.

T. 11 N., R. 61 W., (unsurveyed)

Secs. 3 to 8, inclusive;

Secs. 17 to 20, inclusive;

Secs. 30 and 31.

T. 12 N., R. 61 W., (unsurveyed)

Secs. 27 to 34, inclusive.

T. 10 N., R. 62 W., (unsurveyed)

Secs. 1 and 2;

Secs. 7 to 18, inclusive, excepting therefrom Native Allotment application F-17230.

T. 11 N., R. 62 W., (unsurveyed)

Secs. 1 and 2;

Secs. 11 to 14, inclusive;

Secs. 23 to 26, inclusive;

Secs. 35 and 36.

T. 10 N., R. 63 W., (unsurveyed)

Secs. 9 to 16, inclusive.

T. 5 N., R. 68 W., (unsurveyed)

Secs. 1 to 36, inclusive, excepting therefrom Native Allotment Certificates 50-2000-0148, 50-2000-0045, 50-2000-0015, and 50-2000-0078.

The areas described aggregate a total of approximately 61,139 acres.

2. Prior to conveyance of any of the lands withdrawn by this order, the lands shall be subject to administration by the Secretary of the Interior under applicable laws and regulations, and his authority to make contracts and to grant leases, permits, rights-of-way, or easements shall not be impaired by this withdrawal.

3. This order constitutes final withdrawal action by the Secretary of the Interior under section 22(j)(2) of the Alaska Native Claims Settlement Act, 43 U.S.C. 1621(j)(2)(2000), to make lands available for selection by the Bethel Native Corporation, to fulfill the entitlement of the village for Bethel, under section 12 and section 14(a) of the Alaska Native Claims Settlement Act, 43 U.S.C. 1611 and 1613 (2000).

4. This withdrawal will terminate 120 days from the effective date of this order, provided, any lands selected shall remain withdrawn pursuant to this order until conveyed. Any lands described in this order not selected by the corporation shall remain withdrawn as part of the Yukon Delta National Wildlife Refuge, pursuant to section 303 (7) of the Alaska National Interest Lands Conservation Act, 16 U.S.C. 668(dd) (2000); and will be subject to the terms and conditions of any other withdrawal or segregation of record.

5. It has been determined that this action is not expected to have any significant effect on subsistence uses and needs pursuant to section 810(c) of the Alaska National Interest Lands Conservation Act, 16 U.S.C. 3120(c) (2000) and this action is exempted from the National Environmental Policy Act of 1969, 42 U.S.C. 4321 note (2000), by section 910 of the Alaska National Interest Lands Conservation Act, 43 U.S.C. 1638 (2000).

Dated: January 9, 2004.
Rebecca W. Watson,
Assistant Secretary—Land and Minerals Management.

[FR Doc. 04-2756 Filed 2-9-04; 8:45 am]

BILLING CODE 4310-JA-P